DEPARTMENT OF COMMERCE

National Telecommunications and Information Administration

Multistakeholder Meeting To Develop Consumer Data Privacy Code of Conduct Concerning Mobile Application Transparency

AGENCY: National Telecommunications and Information Administration, U.S. Department of Commerce.

ACTION: Notice of open meeting.

SUMMARY: The National Telecommunications and Information Administration (NTIA) will convene a meeting to discuss “lessons learned” from NTIA's first privacy multistakeholder process. This Notice announces that the meeting will be held on August 29, 2013.

DATES: The meeting will be held on August 29, 2013, from 2:30 p.m. to 4:00 p.m., Eastern Daylight Time. See Supplementary Information for details.

ADDRESSES: The meeting will be held in the Boardroom at the American Institute of Architects, 1735 New York Avenue NW., Washington, DC 20006.

FOR FURTHER INFORMATION CONTACT: John Verdi, National Telecommunications and Information Administration, U.S. Department of Commerce, 1401 Constitution Avenue NW., Room 4725, Washington, DC 20230; telephone (202) 482-8238; email jverdi@ntia.doc.gov. Please direct media inquiries to NTIA's Office of Public Affairs, (202) 482-7002.

SUPPLEMENTARY INFORMATION: Background: On February 23, 2012, the White House released Consumer Data Privacy in a Networked World: A Framework for Protecting Privacy and Promoting Innovation in the Global Digital Economy (the “Privacy Blueprint”).¹ The Privacy Blueprint establishes a Consumer Privacy Bill of Rights and directs NTIA to convene multistakeholder processes to develop legally enforceable codes of conduct that specify how the Consumer Privacy Bill of Rights applies in specific business contexts.² On July 12, 2012, NTIA convened the first meeting of the privacy multistakeholder process; the first process focused on developing a code of conduct to provide transparency in how companies providing applications and interactive services for mobile devices handle personal data.³ On July 25, 2013, the stakeholder group agreed to stop drafting and begin reviewing, testing, and implementing the code of conduct. More information about the stakeholders' work is available at: http://www.ntia.doc.gov/other-publication/2012/privacy-multistakeholder-process-mobile-application-transparency.

¹ The Privacy Blueprint is available at http://www.whitehouse.gov/sites/default/files/privacy-final.pdf.

² Id.

³ NTIA, First Privacy Multistakeholder Meeting: July 12, 2012, http://www.ntia.doc.gov/other-publication/2012/first-privacy-multistakeholder-meeting-july-12-2012.

Matters To Be Considered: The August 29, 2013 meeting will provide a forum for stakeholders to discuss lessons learned from the first NTIA privacy multistakeholder process. The meeting is not intended to focus on the substance of stakeholder work regarding mobile application transparency. Instead, the meeting will be a venue to discuss what worked well and what can be improved in the NTIA privacy multistakeholder process. NTIA expects that the group will discuss a number of logistical and procedural issues, including but not limited to: how future processes might be structured to reach consensus most efficiently; how future processes might make stakeholder participation easier and more effective; and how future processes might start with one or more sessions that provide factual background on a given topic.

Time and Date: NTIA will convene a meeting of the privacy multistakeholder process on August 29, 2013, from 2:30 p.m. to 4:00 p.m., Eastern Daylight Time. The meeting time is subject to change. Please refer to NTIA's Web site, http://www.ntia.doc.gov/other-publication/2012/privacy-multistakeholder-process-mobile-application-transparency, for the most current information.

Place: The meeting will be held in the Boardroom at the American Institute of Architects, 1735 New York Avenue NW., Washington, DC 20006. The location of the meeting is subject to change. Please refer to NTIA's Web site, http://www.ntia.doc.gov/other-publication/2012/privacy-multistakeholder-process-mobile-application-transparency, for the most current information.

Other Information: The meeting is open to the public and the press. The meeting is physically accessible to people with disabilities. Requests for sign language interpretation or other auxiliary aids should be directed to John Verdi at (202) 482-8238 or jverdi@ntia.doc.gov at least seven (7) business days prior to the meeting. The meeting will also be webcast. Requests for real-time captioning of the webcast or other auxiliary aids should be directed to John Verdi at (202) 482-8238 or jverdi@ntia.doc.gov at least seven (7) business days prior to the meeting. There will be an opportunity for stakeholders viewing the webcast to participate remotely in the meeting through a moderated conference bridge. Access details for the meeting are subject to change. Please refer to NTIA's Web site, http://www.ntia.doc.gov/other-publication/2012/privacy-multistakeholder-process-mobile-application-transparency, for the most current information.

Dated: August 6, 2013.
Kathy Smith,
Chief Counsel, National Telecommunications and Information Administration.

[FR Doc. 2013-19304 Filed 8-8-13; 8:45 am]

BILLING CODE 3510-60-P